DEPARTMENT OF COMMERCE

Patent and Trademark Office

Global Intellectual Property Academy (GIPA) Surveys

ACTION: Proposed collection; comment request.

SUMMARY: The United States Patent and Trademark Office (USPTO), as part of its continuing efforts to reduce paperwork and respondent burden, invites the general public and other Federal agencies to take this opportunity to comment on this extension of a continuing information collection, as required by the Paperwork Reduction Act of 1995, Public Law 104-13 (44 U.S.C. 3506(c)(2)(A)).

DATES: Written comments must be submitted on or before May 19, 2014.

ADDRESSES: You may submit comments by any of the following methods:

• Email: InformationCollection@uspto.gov. Include “0651-0065 comment” in the subject line of the message.

• Mail: Susan K. Fawcett, Records Officer, Office of the Chief Information Officer, United States Patent and Trademark Office, P.O. Box 1450, Alexandria, VA 22313-1450.

• Federal Rulemaking Portal: http://www.regulations.gov.

FOR FURTHER INFORMATION CONTACT: Requests for additional information should be directed to the attention of J. David Binsted, Program Manager, Global Intellectual Property Academy, United States Patent and Trademark Office, P.O. Box 1450, Alexandria, VA 22313-1450; by telephone at 571-272-1500; or by email at james.binsted@uspto.gov. Additional information about this collection is also available at http://www.reginfo.gov under “Information Collection Review.”

SUPPLEMENTARY INFORMATION:

I. Abstract

The United States Patent and Trademark Office (USPTO) surveys international and domestic participants of the USPTO's Global Intellectual Property Academy (GIPA) training programs to obtain feedback from the participants on the effectiveness of the various services provided to them in the training programs. GIPA was established in 2006 to offer training programs on enforcement of intellectual property rights, patents, trademarks, and copyrights. The training programs offered by GIPA are designed to meet the specific needs of foreign government officials (including judges, prosecutors, police, customs officials, patent, trademark, and copyright officials, and policy makers) concerning various intellectual property topics, such as global intellectual property rights protection and enforcement and strategies to handle the protection and enforcement issues in their respective countries.

This collection contains three surveys: Pre-program, post-program, and alumni. The pre-program survey is designed to obtain the background and experience of a participant and is delivered to the participant prior to their arrival for a GIPA training program. The post-program survey is used to analyze the overall effectiveness of the program and is conducted at the conclusion of the training program. The alumni survey is used to determine the value of the GIPA training program on the future job performance of the participant. The data obtained from these participation satisfaction surveys will be used to evaluate the percentage of foreign officials trained by GIPA who have initiated or implemented a positive intellectual property change in their organization; the percentage of foreign officials trained by GIPA who increased their expertise in intellectual property; the satisfaction with the intellectual property program, and the value of the experience as it relates to future job performance. The data received from these surveys will also be used to help the USPTO meet organizational performance and accountability goals through the following legislative mandates: Government Performance and Results Act of 1993 (GPRA), the President's Management Agenda (PMA), and the Office of Management and Budget's (OMB) Program Assessment Rating Tool (PART). These surveys also support various business goals developed by the USPTO to fulfill customer service and performance goals, to assist the USPTO in strategic planning for future initiatives, to verify existing service standards, and to establish new ones.

The GIPA surveys are voluntary surveys. The USPTO expects to hire a survey contractor to conduct these surveys. The surveys will primarily be conducted electronically, but the USPTO will also have paper surveys to mail to those participants who have poor Internet connectivity or have access restrictions. In-person surveys may also be conducted. Survey participants will be able to access the online surveys through links provided to them in email invitations. The links provided in these emails are individualized links that are uniquely tied to the survey participants so passwords, user ids, or usernames are not needed to access the surveys.

Information collected from the surveys will be kept private, to the extent provided by law. Responses to the pre-program, post-program, and alumni surveys can be linked to the participants and to the demographic data collected from them during the various GIPA training programs. However, the actual data recorded from the surveys will not be directly linked to the participants. Any data linking the individual to their responses will not be retained after the data has been aggregated. The USPTO will have limited access to the data. The only data that the USPTO can access will be the aggregated survey data and the frequency of the responses; the agency will not be able to view the individual responses or the data related to the survey. The survey contractor will have access to individual survey responses for analysis purposes only and will only report the aggregated data and the frequency of the responses. The USPTO does not intend to collect any personal identifying data from the participants and intends to maintain the contact information for the participants in a separate file from the quantitative data.

II. Method of Collection

The surveys will primarily be online surveys but the USPTO will also have paper surveys to mail to those participants who have poor Internet connectivity or have access restrictions. The surveys will also be distributed by email. In-person surveys may also be conducted.

III. Data

OMB Number: 0651-0065.

Form Number(s): None.

Type of Review: Extension of a currently approved collection.

Affected Public: Individuals or households and businesses or other for profit institutions.

Estimated Number of Respondents: 650 responses per year. The USPTO estimates that approximately 350 of the surveys will be filed electronically.

Estimated Time per Response: The USPTO estimates that it takes the public approximately 15 minutes (0.25 hours) to complete the surveys in this collection. This includes the time to gather the necessary information, respond to the survey, and submit it to the USPTO. The USPTO calculates that, on balance, it takes the same amount of time to complete and submit the surveys, whether the participant completes the survey in paper or electronically.

Estimated Total Annual Respondent Burden Hours: 163 hours per year.

Estimated Total Annual Respondent Cost Burden: $28,688 per year. The USPTO expects that the audience for the GIPA training programs will typically consist of high-ranking government officials, judges, lawyers, examiners, and others. The USPTO estimates that roughly 20% of the attendees fall into the high-ranking categories, while the rest make up 80% of the attendees. The USPTO estimates that the hourly rate for 20% of the attendees would be roughly equivalent to the professional hourly rate of $389, while the rest would be roughly equivalent to the para-professional hourly rate of $122. Using these U.S. hourly rates, the USPTO estimates a professional hourly rate of $78 and a paraprofessional hourly rate of $98, for a total hourly rate of $176. Please note that since individuals with varying job titles and pay grades typically attend the GIPA training programs, the USPTO is currently unable to derive a concise international labor rate for these individuals. Due to this and the fact that the training is conducted in the United States, the USPTO is using the corresponding United States pay rates to calculate the hourly labor rates. If the agency can obtain more concise hourly labor rate data for these individuals, these rates will be used to calculate the respondent burden in the future. The USPTO estimates that the total respondent cost burden for this collection is $28,688 per year.

Item | Estimated time for response (minutes) | Estimated annual responses | Estimated annual burden hours
Pre-Program Survey | 15 | 100 | 25
Electronic Pre-Program Survey | 15 | 100 | 25
Post-Program Survey | 15 | 100 | 25
Electronic Post-Program Survey | 15 | 100 | 25
Alumni Survey | 15 | 100 | 25
Electronic Alumni Survey | 15 | 150 | 38
Total |  | 650 | 163

Estimated Total Annual Non-hour Respondent Cost Burden: $0 per year. There are no maintenance, operation, capital start-up, or recordkeeping costs associated with this information collection. These surveys do not have filing or other fees associated with them. The USPTO expects to conduct these surveys electronically using a survey tool and may also conduct in-person surveys. In either case, there will be no postage costs associated with these surveys.

IV. Request for Comments

Comments submitted in response to this notice will be summarized and/or included in the request for OMB approval. All comments will become a matter of public record.

The USPTO is soliciting public comments to: (a) Evaluate whether the proposed collection of information is necessary for the proper performance of the functions of the agency, including whether the information will have practical utility; (b) Evaluate the accuracy of the agency's estimate of the burden of the proposed collection of information, including the validity of the methodology and assumptions used; (c) Enhance the quality, utility, and clarity of the information to be collected; and (d) Minimize the burden of the collection of information on those who are to respond, including through the use of appropriate automated, electronic, mechanical, or other technological collection techniques or other forms of information technology, e.g., permitting electronic submission of responses.

Dated: March 14, 2014.
Susan K. Fawcett,
Records Officer, USPTO, Office of the Chief Information Officer.

[FR Doc. 2014-06002 Filed 3-18-14; 8:45 am]

BILLING CODE 3510-16-P